DEPARTMENT OF TRANSPORTATION

Pipeline and Hazardous Materials Safety Administration

Hazardous Materials: Notice of Applications for Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before August 10, 2017.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue SE., Washington, DC 20590-0001, (202) 366-4535.

SUPPLEMENTARY INFORMATION: Copies of the applications are available for inspection in the Records Center, East Building, PHH-30, 1200 New Jersey Avenue SE., Washington DC or at http://regulations.gov.

This notice of receipt of applications for special permit is published in accordance with Part 107 of the Federal hazardous materials transportation law (49 U.S.C. 5117(b); 49 CFR 1.53(b)).

Issued in Washington, DC, on June 29, 2017.
Donald Burger,
Chief, Office of the Special Permits and Approvals.

Application No. | Docket No. | Applicant | Regulation(s) affected | Nature of the special permits thereof
Special Permits Data
20476-N |  | A123 Systems LLC | 172.101(j), 173.185(b) | To authorize the transportation in commerce of lithium ion batteries exceeding 35 kg by cargo-only aircraft. (mode 4)
20477-N |  | Lithionics Battery, LLC | 172.101(j) | To authorize the transportation in commerce of lithium ion batteries exceeding 35 kg by cargo-only aircraft. (mode 4)
20478-N |  | Thermo MF Physics LLC | 173.304(a) | To authorize the transportation in commerce of sulfur hexafluoride in non-specification packaging.
20480-N |  | Carolina Logistics Services, L.L.C | 172.301(c), 172.303(a), 173.185(c)(1)(ii), 173.185(c)(1)(iii), 173.185(c)(1)(iv), 173.185(c)(3) | To authorize the transportation in commerce of packages containing lithium cells and batteries without certain package markings when contained in overpacks and transported via motor vehicle and rail. (modes 1, 2)
20481-N |  | Advanced Green Innovations, LLC | 173.212 | To authorize the manufacture, mark, sale, and use of non-DOT specification pressure vessels for the transportation of certain Division 4.2 materials. (modes 1, 2, 3)
20482-N |  | Phosphorus Derivatives Inc. | 173.35(e) | To authorize the transportation in commerce of residue contained in IBCs where the closure nearest to the hazardous materials cannot be secured. (mode 1)
20484-N |  | Teledyne Brown Engineering, Inc | 173.62(c), 173.62(c)(2), 173.62(c)(4), 173.302(a) | To authorize the transportation in commerce of Class 1 materials and non-DOT specification cylinders contained in space launch systems. (modes 1, 3)
20490-N |  | Rotak LLC | 172.101(j), 172.200, 172.204(c)(3), 172.301(c), 173.27(b)(2), 175.30(a)(1), 175.75 | To authorize the transportation in commerce of certain hazardous materials which are forbidden for transportation by air or exceed quantity limitations, to be transported by cargo aircraft either inside the aircraft or in external load configuration within the state of Alaska and the 48 contiguous states when other means of transportation are impracticable or not available. (mode 4)
20491-N |  | Rotak LLC | 172.101(j), 172.204(c)(3), 172.301(c), 173.27(b)(2), 175.30(a)(1), 175.75 | To authorize the transportation in commerce of certain class 1 hazardous materials which are forbidden for transportation by air, to be transported in Part 133 rotorcraft external load operations attached to or suspended from an aircraft, in remote areas of the State of Alaska and the contiguous 48 states, without being subject to hazard communication requirements, quantity limitations and certain loading and stowage requirements. (mode 4)

[FR Doc. 2017-14468 Filed 7-10-17; 8:45 am]

BILLING CODE 4909-60-P